DEPARTMENT OF THE INTERIOR

Bureau of Land Management

[LLCO922000-L13100000-FI0000-18X]

Notice of Proposed Reinstatement of Terminated Oil and Gas Lease COC77678, Colorado

AGENCY: Bureau of Land Management, Interior.

ACTION: Notice of reinstatement.

SUMMARY: As provided for under the Mineral Leasing Act of 1920, as amended, the Bureau of Land Management (BLM) received a petition for reinstatement of competitive oil and gas lease COC77678 from Contex Energy Company, LLC for land in Archuleta and La Plata counties, Colorado. The lessee filed the petition on time, along with all rentals due since the lease terminated under the law. No leases were issued that affect these lands prior to receiving the petition. The BLM proposes to reinstate this lease.

FOR FURTHER INFORMATION CONTACT: Johnathan Fairbairn, Branch Chief for Fluid Minerals Adjudication, BLM Colorado State Office, 2850 Youngfield Street, Lakewood, CO 80215, 303-239-3753, jfairbairn@blm.gov. Persons who use a telecommunications device for the deaf (TDD) may call the Federal Relay Service (FRS) at 1-800-877-8339 to contact the above individual during normal business hours. The FRS is available 24 hours a day, seven days a week, to leave a message or questions with the above individual. You will receive a reply during normal business hours.

SUPPLEMENTARY INFORMATION: The lessee agrees to the new lease terms for rentals and royalties of $10 per acre, or fraction thereof, per year, and 16⅔ percent respectively. The lessee paid the required $500 administrative fee for lease reinstatement and the $159 cost of publishing this notice. The lessee met the requirements for reinstatement of the lease per Sec. 31(d) and (e) of the Mineral Leasing Act of 1920 (30 U.S.C. 188). The BLM proposes to reinstate the lease effective June 1, 2017, under the original terms and conditions of the lease and the increased rental and royalty rates cited above.

Authority: 30 U.S.C. 188(e)(4) and 43 CFR 3108.2-3.

Gregory P. Shoop,
Acting BLM Colorado State Director.

[FR Doc. 2018-10968 Filed 5-22-18; 8:45 am]

BILLING CODE 4310-JB-P